DEPARTMENT OF STATE

[Public Notice 4157]

Shipping Coordinating Committee; Notice of Meeting

The Shipping Coordinating Committee will conduct an open meeting at 9:30 a.m. on November 26, 2002, in Room 2415 at U.S. Coast Guard Headquarters, 2100 2nd Street, SW, Washington, DC, 20593-0001. The purpose of this meeting will be to finalize preparations for the 76th Session of the Maritime Safety Committee (MSC 76) and associated bodies of the International Maritime Organization (IMO) scheduled for December 2-13, 2002 at IMO Headquarters in London. The meeting will also finalize preparations for the International Conference on Maritime Security, to be held in conjunction with the second week of MSC 76, December 9-13, 2002.

At this meeting, papers received from IMO and draft U.S. positions for MSC 76 will be discussed. Agenda items include, among other things:

— Large passenger ship safety

— Bulk carrier safety

— Measures to enhance maritime security

— Implementation of the revised STCW Convention

— Piracy and armed robbery against ships

— Reports of six subcommittees—Stability, Load Lines and Fishing Vessel Safety (SLF), Safety of Navigation (NAV), Flag State Implementation (FSI), Bulk Liquids and Gases (BLG), Ship Design and Equipment (DE) and Dangerous Goods, Solid Cargoes and Containers (DSC).

The Conference on Maritime Security will begin after completion of MSC 76 and will include:

— Consideration and adoption of amendments to SOLAS for maritime security.

— Consideration and adoption of an International Ship and Port Facility Security (ISPS) Code; and

— Consideration and adoption of resolutions and recommendations related to maritime security.

Members of the public may attend this meeting up to the seating capacity of the room. Interested persons may seek information by writing to Mr. Joseph J. Angelo, Commandant (G-MS), U.S. Coast Guard Headquarters, 2100 2nd Street, SW, Room 1218, Washington, DC 20593-0001 or by calling (202) 267-2988.

Dated: November 5, 2002.
Stephen Miller,
Executive Secretary, Shipping Coordinating Committee, Department of State.

[FR Doc. 02-28927 Filed 11-13-02; 8:45 am]

BILLING CODE 4710-07-P